DEPARTMENT OF STATE

[Public Notice 4177]

Bureau of Educational and Cultural Affairs Request for Grant Proposals: Future Leaders Exchange (FLEX) Disability Reentry Workshop; Notice: Request for Grant Proposals

Summary: The Office of Citizen Exchanges, Youth Programs Division, of the Bureau of Educational and Cultural Affairs announces an open competition for the FLEX Disability Reentry Workshop. Public and private non-profit organizations meeting the provisions described in Internal Revenue Code section 26 U.S.C. 501(c)(3) may submit proposals for the conduct of a special reentry workshop to be held in April 2003 for students with disabilities participating in the 2002/03 Future Leaders Exchange (FLEX) program. Approximately 16-18 students will participate in this workshop. All programs must comply with J-1 visa regulations. Please refer to the Solicitation Package for further information.

Budget Guidelines: Applicants must submit a comprehensive budget for the entire program. Awards may not exceed $35,000. There must be a summary budget as well as breakdowns reflecting both administrative and program budgets. Applicants may provide separate sub-budgets for each program component, phase, location, or activity to provide clarification. Administrative costs should be kept as low as possible. Cost sharing is encouraged. Allowable costs for the program include the following:

(1) Round-trip transportation for participants from their host communities to/from the workshop site.

(2) Daily travel at workshop site location as necessary.

(3) Accommodations and meals for participants during the time of the workshop.

(4) Rental of facilities and equipment.

(5) Fees for relevant excursions and cultural activities.

(6) Honoraria for speakers/trainers, as appropriate.

(7) Necessary reasonable accommodations.

(8) Materials development.

Please refer to the Solicitation Package for complete budget guidelines and formatting instructions.

The Future Leaders Exchange (FLEX) program brings secondary school students from Eurasia to the U.S. for an academic year. During their time in the U.S., FLEX students live with American host families and attend U.S. high schools.

Note: For more information on the FLEX program, you may refer to the Youth Programs Division Web site: [http://exchanges.state.gov/education/citizens/students.]

Since 1995, the FLEX program has included a component for students with disabilities. This has been challenging since individuals with disabilities are treated very differently in Eurasia than they are in the U.S. In Eurasia, most disabled young people attend special schools, largely institutions, and being disabled carries a major stigma. Most young, disabled individuals either are ignored by parents who are ashamed of them or are overprotected by parents who are concerned that they cannot function independently.

Generally, FLEX participants with disabilities adjust well to American life and culture and realize the same positive effects as non-disabled participants. However, after having enjoyed the accessibility and other disability supports that exist in the U.S., they frequently are not well-prepared to return to the less disability-friendly environments of their Eurasian home countries. The major purpose of this special reentry workshop is to help prepare them to readjust to their home cultures. It is Bureau policy that recruitment of people with disabilities at every level should be a priority in all sponsored programming. If this is to be done effectively, it becomes equally important to adequately prepare disabled program participants for the reverse culture shock that is sure to occur when they return home.

Therefore, this workshop should focus on the reentry and transition to home country of each student as a person with a disability, as the students will also be attending other reentry workshops conducted for all FLEX students by their respective placement organizations at the end of the program year. These other workshops will provide more general training for readjustment to their Eurasian home culture. Goals of the disability workshop are: (1) Facilitating readjustment as a person with a disability to a less disability-friendly environment; (2) conducting activities to further develop leadership skills and foster empowerment; (3) providing students with tools that will enable them to do outreach and work in support of disability rights in their home countries.

Announcement Title and Number: All correspondence with the Bureau concerning this RFGP should reference the above title and number ECA/PE/C/PY-03-21.

For Further Information Contact: The Youth Programs Division, Office of Citizen Exchanges, ECA/PE/C/PY, Room 568, U.S. Department of State, 301 4th Street, SW., Washington, DC 20547, telephone: 202/619-6299, fax: 202/619-5311, e-mail: lbeach@pd.state.gov to request a Solicitation Package. The Solicitation Package contains detailed award criteria, required application forms, specific budget instructions, and standard guidelines for proposal preparation. Please specify Bureau Program Officer Linda Beach on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals: All proposal copies must be received at the Bureau of Educational and Cultural Affairs by 5 p.m. Washington, DC time on Monday, December 16, 2002. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/PE/C/PY-03-21, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. Applicants are also encouraged to submit proposals as Microsoft Word or Excel documents as well.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Adherence to all Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning and ability to achieve program objectives: Detailed agenda and relevant work plan should demonstrate substantive undertakings and logistical capacity. Agenda and plan should adhere to the program overview and guidelines described above. Objectives should be reasonable, feasible, and flexible. Proposals should clearly demonstrate how the organization will meet the program's objectives and plan.

3. Support of diversity: Proposals should demonstrate substantive support of the Bureau's policy on diversity. Achievable and relevant features should be cited in both program administration and program content (orientation and wrap-up sessions, program meetings, resource materials and follow-up activities).

4. Institutional capacity: Proposed personnel and institutional resources should be adequate and appropriate to achieve the program or project's goals. Proposing organization should demonstrate it has experience with disability programming and international youth exchange, as well as familiarity with Eurasian culture.

5. Institution's record/Ability: Proposals should demonstrate an institutional record of successful exchange programs, including responsible fiscal management and full compliance with all reporting requirements for past Bureau grants as determined by Bureau Grant Staff. The Bureau will consider the past performance of prior recipients and the demonstrated potential of new applicants.

6. Multiplier effect/Impact: Proposed programs should describe how workshop participants will be motivated and enabled to reach out to other individuals with disabilities in their home countries.

7. Follow-on activities: Proposals should describe how workshop participants would be provided with knowledge and tools that will prepare them to work in support of disability rights in their home countries.

8. Project evaluation: Proposals should include a plan to evaluate the activity's success. A draft survey questionnaire or other technique plus description of a methodology to use to link outcomes to original project objectives are recommended. Successful applicants will be expected to submit a final report after the project has been completed.

9. Cost-effectiveness/Cost Sharing: The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation of the FREEDOM Support Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: October 21, 2002.
C. Miller Crouch,
Principal Deputy Assistant Secretary, Educational and Cultural Affairs, Department of State.

[FR Doc. 02-27231 Filed 10-24-02; 8:45 am]

BILLING CODE 4710-05-U